DEPARTMENT OF HEALTH AND HUMAN SERVICES

Centers for Disease Control and Prevention

[30Day-09-08BD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Survey of HIV Testing in Hospitals—New—National Center for HIV, Viral Hepatitis, STD and TB Prevention (NCHHSTP), Centers for Disease Control and Prevention (CDC).

Background and Brief Description

Early identification of HIV infection has significant benefits to the infected individual and society. In light of recent advancements in HIV testing and treatment, the Centers for Disease Control and Prevention (CDC) released its prevention initiative, Advancing HIV Prevention: New Strategies for a Changing Epidemic. A key component of this strategy focuses upon increased HIV testing in healthcare settings to increase the number of persons with HIV who are aware of their infection and are successfully referred to treatment and prevention services. In September 2006, CDC released revised recommendations for routine HIV testing of adults, adolescents, and pregnant women in healthcare settings as a measure to address the high number of individuals who are unaware of their HIV infection.

Routine HIV testing programs in hospital settings, including emergency departments (EDs) and urgent care centers (UCCs), have great potential to identify a large number of previously undiagnosed individuals. Prior to the release of the revised recommendations, few such hospital-based testing programs had existed in the United States. CDC is committed to increasing the number of such programs in the U.S., and is currently working with partners to achieve these goals. This project proposes a survey to assess HIV testing policies and practices in hospitals nationwide and to describe the uptake of the revised HIV testing recommendations for hospital settings.

The objectives of this project are: (1) To determine the extent to which HIV testing is being conducted in U.S. hospitals; (2) to describe the characteristics of hospitals with and without HIV testing programs; and (3) to identify barriers to and facilitators of implementing HIV testing programs in these settings. This data will assist CDC in monitoring the uptake of recommendations for HIV testing in healthcare settings.

CDC is requesting approval for collecting information for 2 years. This project will collect data from hospitals on a one-time voluntary basis using a brief survey. Surveys will be completed by the hospital administrators at each site who are most knowledgeable on HIV testing practices, infection control, and laboratory procedures for their site, in consultation with other hospital staff, as necessary. Collection of data will provide information on current HIV testing practices and policies for the hospital; use of point-of-care and conventional HIV tests; and barriers and facilitators of hospital-based HIV testing.

Data will be requested from a representative sample of the nearly 5000 U.S. community hospitals. CDC estimates that a total of 1000 respondents would spend one hour in the collection, management, and reporting of information under this project. Data collection will occur over two years with 500 surveys conducted per year. There is no cost to the participating hospitals other than their time. The total estimated annual burden hours are 500.

Estimated Annualized Burden Hours
Type of respondent | Form name | Number of respondents | Number of responses per respondent | Avg. burden per response (in hours)
Hospital | National Survey of HIV Testing in Hospitals | 500 | 1 | 1

Dated: February 3, 2009.
Maryam I. Daneshvar,
Acting Reports Clearance Officer, Centers for Disease Control and Prevention.

[FR Doc. E9-2610 Filed 2-6-09; 8:45 am]

BILLING CODE 4163-18-P